DEPARTMENT OF LABOR

Employment and Training Administration

[TA-W-60,847]

Mid-West Wire Products Incorporated; Ferndale, MI; Notice of Termination of Investigation

Pursuant to Section 221 of the Trade Act of 1974, as amended, an investigation was initiated on January 29, 2007 in response to a petition filed by a company official on behalf of workers at Mid-West Wire Products Incorporated, Ferndale, Michigan.

The petitioner has requested that the petition be withdrawn. Consequently, the investigation has been terminated.

Signed in Washington, DC, this 21st day of February 2007.
Linda G. Poole,
Certifying Officer, Division of Trade Adjustment Assistance.

[FR Doc. E7-3462 Filed 2-27-07; 8:45 am]

BILLING CODE 4510-FN-P